DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Quarterly Survey of Public Pensions.

OMB Control Number: 0607-0143.

Form Number(s): F-10.

Type of Request: Extension of a currently approved collection.

Number of Respondents: 100.

Average Hours per Response: 45 minutes.

Burden Hours: 300.

Needs and Uses: A small number of large retirement systems control over 3.3 trillion dollars in public pension assets in the financial markets. In the process of preparing the frame for the 2012 Census of Governments, 3,992 public retirement systems administered by state and local governments were identified. The 100 largest systems, as measured by the system assets, account for about 87.2 percent of the total assets of all systems, based on the 2012 Census of Governments. The Quarterly Survey of Public Pensions is used to collect data on the assets, revenues, and expenditures of these 100 systems enabling policy makers and economists to follow the changing characteristics of these funds. 100 units are selected in an attempt to balance timeliness, respondent burden, workload, and data quality. The survey provides a more timely subset of the data presented in the Annual Survey of Public-Employee Pension Systems. Both Surveys are part of the Census Bureau's Government Finance program.

The U.S. Census Bureau initiated this survey in 1968 at the request of both the Council of Economic Advisers and the Federal Reserve Board. The most important information this survey provides is the quarterly change in composition of the securities holdings of the defined benefit public employee retirement systems component of the economy. The Federal Reserve Board uses these data to track the public sector portion of the Flow of Funds Accounts. The Bureau of Economic Analysis (BEA) uses these data to estimate dividends received by state and local government retirement systems that, in turn, are used in preparing the National Income and Product Accounts. Additionally, the data are used by a variety of government officials, academics, students, and non-profit organizations to analyze trends in public employee retirement and the impact of retirement obligations on the fiscal well-being of state and local governments. Media that serve investment and public policy audiences routinely report on the quarterly data release, further disseminating the data.

Affected Public: State, local or tribal government.

Frequency: Quarterly.

Respondent's Obligation: Voluntary.

Legal Authority: 13 U.S.C. Sections 161 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Lead, Office of the Chief Information Officer.

[FR Doc. 2015-24130 Filed 9-22-15; 8:45 am]

BILLING CODE 3510-07-P